DEPARTMENT OF TRANSPORTATION

Federal Transit Administration

[Docket No. FTA-2016-0030]

Transit Asset Management: Final Guidebooks

AGENCY: Federal Transit Administration (FTA), DOT.

ACTION: Notice of availability of final guidebooks.

SUMMARY: FTA has placed in the docket and on its Web site guidance in the form of two guidebooks to assist grantees in complying with FTA's Transit Asset Management program. The purpose of the guidebooks is to inform the transit community of calculation methodologies for state of good repair (SGR) performance measures for infrastructure and facilities.

DATES: Reporting the performance measures discussed in these guidebooks will be optional in NTD report year 2017 with full implementation required in report year 2018.

ADDRESSES: For access to DOT Docket Number FTA-2016-0030 to read background documents and comments received, go to www.regulations.gov at any time or to the U.S. Department of Transportation, 1200 New Jersey Avenue SE., Docket Operations, M-30, West Building Ground Floor, Room W12-140, Washington, DC 20590 between 9:00 a.m. and 5:00 p.m. Eastern Standard Time, Monday through Friday, except Federal holidays.

FOR FURTHER INFORMATION CONTACT: For program matters, contact John Giorgis, FTA Office of Budget and Policy, at (202) 366-5430, or john.giorgis@dot.gov. For legal matters, contact Bruce Walker, FTA Attorney-Advisor, Office of Chief Counsel, at (202) 366-9109 or bruce.walker@dot.gov.

SUPPLEMENTARY INFORMATION:

Availability of Final Guidebooks

This notice provides a summary of the final changes to the “TAM Infrastructure Performance Measure Reporting Guidebook: Performance Restriction (Slow Zone) Calculation” and the “TAM Facility Performance Measure Reporting Guidebook: Condition Assessment Calculation.” FTA requested comments on both proposed guidebooks in a Federal Register notice published July 26, 2016 (81 FR 48974). The guidebooks are available on the following FTA Web site: www.transit.dot.gov/TAM.

Table of Contents

I. Background

II. Summary of Comments and FTA Responses

A. Facility Condition Assessment Guidebook

B. Guideway Performance Restriction Calculation Guidebook

I. Background

The guidebooks discussed in this notice incorporate changes to FTA's programs due to the Moving Ahead for Progress in the 21st Century Act (MAP-21); the publication of the final rule for FTA's National Transit Asset Management (TAM) System and amendments to the National Transit Database (NTD) regulations; and changes in terminology used in the 2012 Asset Management Guide.

FTA issued its final rule for the National Transit Asset Management (TAM) System and the final notice for the National Transit Database Asset Inventory Module in the Federal Register on July 26, 2016 (81 FR 48971). The final rule includes four (4) state of good repair (SGR) performance measures for capital assets: (1) Equipment: (non-revenue) service vehicles. The performance measure for non-revenue, support-service and maintenance vehicles equipment is the percentage of those vehicles that have met or exceeded their useful life benchmark (ULB); (2) Rolling stock. The performance measure for rolling stock is the percentage of revenue vehicles within a particular asset class that have either met or exceeded their ULB; (3) Infrastructure: rail fixed-guideway, track, signals, and systems. The performance measure for rail fixed-guideway, track, signals, and systems is the percentage of track segments with performance restrictions; and (4) Facilities. The performance measure for facilities is the percentage of facilities within an asset class, rated below condition three (3) on the Transit Economic Requirements Model (TERM) scale.

The final rule includes performance measures for infrastructure and facilities categories; however, it was silent with regard to calculation methodologies. To that end, FTA proposed guidebooks that provided both standard terminology and calculation options for transit providers to conform to the proposed SGR performance measures for infrastructure and facilities. The proposed guidebooks specifically describe how to measure and report the infrastructure and facility performance measures to the NTD and were published in the Federal Register for public comment on July 26, 2016. This notice responds to comments received and announces the availability of the revised final guidebooks: The “TAM Infrastructure Performance Measure Reporting Guidebook: Performance Restriction (Slow Zone) Calculation” and the “TAM Facility Performance Measure Reporting Guidebook: Condition Assessment Calculation.”

The final guidebooks are not included in this notice; instead, electronic versions are available on FTA's Web site, at www.transit.dot.gov/TAM, and are also available on the docket, at www.regulations.gov. Paper copies of the proposed guidebooks may be obtained by contacting FTA's Administrative Services Help Desk at (202) 366-4865.

II. Summary of Comments and FTA Responses

FTA proposed guidebooks are intended to aid compliance with the Transit Asset Management Subpart D Performance Management requirements of 49 CFR part 625 ¹ and the National Transit Database (NTD) Asset Inventory reporting requirements of 49 CFR part 630. Thirteen commenters responded to the request for public comment. Based on comments received, FTA has clarified and revised sections of both guidebooks to provide better flow and clarity.

¹ See Federal Register, notice of availability at https://www.gpo.gov/fdsys/pkg/FR-2016-07-26/pdf/2016-17076.pdf.

The comments and FTA responses are organized as follows (1) facility condition assessments, and (2) guideway performance restriction calculations.

A. Facility Condition Assessments

Comments: Many commenters requested clarification regarding terms and definitions used and the procedures proposed in the guidebook. A number of the commenters indicated issues regarding Chapter 3.0 Condition Assessment Procedures of the guidebook. They provided recommendations for the process used to calculate weighted averages, improving the list to be rated in Table 7, as well as the methodology for assessing their condition. One commenter recommended the guidance be revised to clearly distinguish when a requirement is applicable to NTD reporting as opposed to TAM program reporting.

Another commenter requested clarity on how facilities that are under construction should be reported; and, if whether a facility should be distinguished as individual buildings or a compound. Two other commenters questioned how equipment located in a facility should be inventoried. Another commenter also recommended that the guidebook photos used to indicate examples of condition ratings should better represent the condition levels they are supposed to exemplify.

Several commenters strongly recommended that FTA offer flexibility to agencies that have well-developed and mature approaches for measuring SGR. A commenter noted that such flexibility can be offered without compromising FTA's ability to calculate SGR needs at the national level based on a consistent set of underlying data.

FTA Response: The terms and definitions used in the guidebook are terms of general use within the transit industry. FTA recognizes that some transit agencies may use different nomenclature for the same or similar items. FTA recognizes that a transit agency may find it necessary to tailor the rating level descriptions provided. As noted in Section 3.3 of the proposed guidebook, a transit agency may customize its lists to address specialized assets or conditions, incorporate existing practices and data, and/or leverage more detailed data specific to the agency. Further FTA has revised the terminology in the facility guidebook to reduce confusion with other FTA regulation and guidance by removing the terms “component” and “subcomponent”. The final guidebook utilizes the terms “primary rating level” and “secondary rating level” to describe the asset and its hierarchy transit providers' will use in their calculation of the overall facility condition rating. As for facilities under construction, FTA notes that the TAM rule only requires assets that are in revenue service be included in the TAM plan or NTD asset inventories; hence construction projects are not required to be included when assessing facilities.

In response to recommendations to clarify whether a facility is assessed as individual or multiple buildings; FTA clarifies that a single facility is defined as one building, so for example, a compound with four buildings would be four facilities. Further, FTA recommends agencies review the 2017 Asset Inventory Module (AIM) Manual,² which itemizes all facility types that will be reported to the NTD. Each of these facility types and any other building where transit administrative, maintenance or operations functions are conducted should be considered an independent facility even when it is adjacent to or on the same property as another building.

² www.transit.dot.gov/sites/fta.dot.gov/files/docs/2017%20Asset%20Inventory%20Module%20Reporting%20Manual_0.pdf

With regard to equipment located in facilities, a transit agency should use their best judgement to determine whether or not it's administrative and maintenance facility equipment should be inventoried as an equipment category asset or as a facility category asset. If the asset is likely to be moved from one location to another, including at such time when the building is replaced, then it should be inventoried as an equipment asset and not as part of the facility. Likewise, if the asset is integral to the building, then it should be inventoried as a part of the administrative and maintenance facility. However, if factored within the facility it should be included in the facility condition assessment for as long as it is in use in the facility. FTA notes the agency will continue to refine the glossary of terms and definitions used in the NTD as appropriate to improve clarity. In addition, FTA has revised the introduction section of the guidebook to address the relationship between requirements for TAM and NTD.

With regard to those commenters who expressed concern about the procedures and equal weighting factors proposed in the guidebook, FTA notes that each agency has discretion to determine importance within its systems. However, FTA has simplified the equation for aggregation calculations and revised the guidebook accordingly. FTA also notes the revised guidebook does not have photos of each condition for every rating level referenced. The photos were included as an example, but the examples may not be representative of all types.

As for flexibility, FTA notes that a transit agency can customize its approach as long as it is documented and convertible to the TERM scale for reporting purposes (1 to 5). Transit agencies with more advanced and sophisticated processes are encouraged to apply those methodologies beyond the minimum standards required by the final rule. Furthermore, we note that throughout the TAM rulemaking process, FTA solicited feedback regarding performance measures and methodologies and the final rule requirements are a result of this effort.

Comment: One commenter recommended the guidebook discuss the financial investment tradeoff for achieving various TERM ratings.

FTA Response: FTA appreciates the significance of this issue but it is not within the scope of the guidebook.

Comments: One commenter noted the Facility Condition Assessment process on page 11 of the proposed guidebook indicated that agencies calculate the “percentage of all facilities with a condition of 1 or 2”: while the rule indicates that the performance measure is the percentage of facilities scoring below a 3.0 on the TERM scale. The commenter requested clarification for how a facility with a 2.99 aggregate score would be counted—as above or below the threshold.

FTA Response: With regard to aggregate scores that result in decimals, FTA has clarified the guidebook instructions for rounding up or down (see Chapter 4).

Comment: One commenter recommended FTA extend the requirement for assessing facilities to a five-year cycle instead of three years. The commenter indicated the frequency of condition assessment proposed in the guidebook was out of sync with their assessment cycle and appeared arbitrary.

FTA Response: FTA notes that it originally established the three-year cycle for facility assessments based on practitioner input. Nonetheless, FTA concurs with the commenter who indicated that a three-year cycle could be burdensome to larger transit systems. FTA has modified the facility condition assessment to a four-year cycle in order to coincide with the TAM plan cycle of every four years. This aligns with the TAM planning efforts. FTA believes having facility condition data current within the TAM plan cycle allows an agency to use available information to accurately identify priorities. Accordingly, transit providers will be required to report to the NTD at least 25% of their facility condition assessments annually over the initial 4 year roll-out period. Providers may choose to roll out this requirement more quickly.

Comment: One commenter requested clarification for reporting the condition for facilities owned by another entity.

FTA Response: The TAM final rule applies to all capital assets used in the provision of public transportation regardless of funding source, or ownership. However, transit agencies are only required to report condition of assets for facilities for which they have a direct capital responsibility. Transit agencies that have shared direct capital responsibilities for a facility must determine the roles and responsibilities each will have for conducting the condition assessment. Only one assessment needs to be conducted but each provider with capital responsibility will report the assessment to the NTD.

Comments: One commenter requested clarification noting an inconsistency between the rule and the proposed guidebook. The commenter noted that the TAM rule indicates the cost threshold for equipment is over $50,000, but the guidebook includes equipment over $10,000 in value. Other commenters recommended grammatical edits and noted some inconsistencies in the proposed guidebook as follows: (1) A-10: The table indicates that there are eight choices of administrative and maintenance facility types; however, the Form A-10 presently posted on the NTD Web site has 11 choices for facility type; (2) Table 2 appears to be a copy of Table 1 without making the necessary changes in the Facility Name and Facility Type descriptions; (3) the guidebook uses the term “capital interest” to describe the facilities that must be reported on, whereas the TAM rule uses the term “direct capital responsibility” which infer a different meaning; (4) inconsistent description for parking facilities and passenger stations. Another commenter requested the NTD Asset Module be made available this fiscal year in order for agencies to gain experience with the inventory requirements.

FTA Response: With regard to equipment thresholds, FTA clarifies that the dollar value the commenter stated only relates to the equipment for administrative and maintenance facilities. If an agency determined the equipment was more appropriate to be rated as part of the facility, the guidebook recommends that it be assessed in the facility condition assessment calculation. FTA is also reviewing the guidebook to address formatting and grammatical inconsistencies indicated by commenters and have made revisions where appropriate including clarifying guidance for assessing passenger and parking facilities. FTA also notes that in response to the commenters concern, the NTD Asset Module will be available in 2017 for optional reporting.

B. Guideway Performance Restriction Calculations

Comment: Two commenters suggested their agency does not yet have systems in place to gather the proposed performance measure calculations, but noted they are in the process of putting those systems in place. One of the commenter further stated the performance measures will take significant time and labor investment from the agency distracting from other needs.

FTA Response: FTA recognizes that agencies may not have the systems in place to collect and calculate the proposed performance measures and that this effort will require additional investment. FTA has estimated the burden of collecting and reporting this information in the TAM Final Rule and NTD Asset Reporting in the Paperwork Reduction Act (PRA) for each.³ This is a statutory requirement and the purpose of the TAM rule and this performance measure guidance is to standardize the terminology and calculation of guideway performance restrictions nationally and for use by agencies in determining their TAM investments. Therefore, FTA does not concur with the commenter.

³ www.gpo.gov/fdsys/pkg/FR-2016-07-26/pdf/2016-16883.pdf and www.gpo.gov/fdsys/pkg/FR-2016-07-26/pdf/2016-17075.pdf.

Comment: One commenter requested that FTA allow agencies to use their existing methodologies to calculate performance restrictions.

FTA Response: FTA does not require agencies to forego their existing performance measure calculations. However this guidance provides the national standard for the reporting of performance restrictions to the NTD. If an agency chooses to use an additional performance measure to meet their operational objectives this is allowed under the TAM final rule. The NTD will collect the national performance measures as defined in the guidebook, but agencies are encouraged to use additional measures appropriate for their operations and level of sophistication.

Comments: One commenter requested FTA provide an alternate time for performance restriction calculation as they do not offer service at 9 a.m. on Wednesdays.

FTA response: FTA selected the time and date for calculation of performance restrictions to fall within peak service operations and, therefore, minimize non-condition related performance restrictions. If an agency does not operate service at the time established in the guidance they may identify another peak time on the first Wednesday of the month for the calculation of speed restriction that meet the intended purpose.

Comment: Five commenters stated the design speed of infrastructure could be greater than maximum allowable service speed due to vehicle capabilities and requested further information on how FTA made its determination and how it relates to other speed terms like maximum allowable speed, signal speed and civil speed. In addition, one commenter suggested FTA use safe operating speed instead and that seasonal adaptations be included in the determination.

FTA Response: FTA selected design speed to use in calculating the infrastructure performance measure because it is objective, accessible and well understood by most operators. However, FTA agrees that the use of design speed in the performance restriction calculation could result in unreasonably large values for agencies that do not operate at their infrastructure design speed through policy decisions, not due to condition of the infrastructure. Therefore, FTA has removed the reference to `design speed' in the performance calculation and replaced it with `full service speed'. This term is defined in the guidebook as “The planned speed at time of installation at which vehicles can travel on a segment during normal operation, or the speed at which vehicles can travel on the segment absent any speed restriction on the segment.” This term removes the possibility of conflict between what speed is achievable through design and what is planned for service at the time of installation. It is important to note that installation of new infrastructure, including signal systems, may impact the determination of full service speed for that segment if it changes the planned speed. Likewise the speed is determined by segments, so that improvement to one segment does not impact full service speed of another segment that may not have been improved. FTA anticipates that full service speed will take into account the vehicle capabilities and maximum allowable speeds due to policy as well as other operating characteristics that an agency considers when planning their service speed. FTA does not agree that safe operating speed is a reasonable alternative because it is subjective. FTA agrees with the commenter regarding the effect of weather impacts and notes that system wide restrictions placed for weather related incidents should not be reported as speed restriction. Section 3.2 of the guidebook describes how to identify performance restrictions.

Comment: One commenter asked how the performance restriction calculation will impact agencies' ability to compete for funding. The commenter asked if the sole intent is to be compliant and continue the current FTA funding strategy or if agencies that have a history of systemic performance restrictions will show as higher priority from a national perspective.

FTA Response: Currently, state of good repair performance measures are not linked to Federal funding decisions, including the performance measures and targets for slow zones. However, agencies may utilize their improved data and target setting procedures in concert with their TAM plan efforts to direct funding towards a state of good repair.

Comments: Two commenters requested clarification about the modes used in the calculation of the infrastructure performance measure.

FTA Response: The TAM final rule and NTD reporting requirements identify bus rapid transit mode and ferry boat as a fixed guideway infrastructure mode; however, the infrastructure performance measure only uses rail guideway for calculation of the performance restrictions. The revised performance restriction guidebook provides clarification of the modes to include in the calculations.

Comments: Four commenters reported typographical errors: The last bullet point in section 2.3 was incomplete, Page 5: The information box at the bottom of the page was missing text, and on Page 10, Table 3, Segment ID 7.2—the mathematical calculation was incorrect.

FTA Response: FTA has rectified each of the typographical errors. The last bullet point in former section 2.3 which was also the information box on page 5 now states “For further details on the definition of modes, types of service, and calculation of track miles refer to the NTD Policy Manual.” The mathematical calculation for segment ID 7.2 in table 3 now states “(2.90−0.35 = 2.55, not 3.55)”.

Comments: Several commenters had questions regarding reporting. Four commenters suggested FTA should provide, require or accept reasons and causes for the performance restriction in addition to the quantity. Specifically, commenters suggested that the FTA take the severity, seasonal or temporary status of the performance restriction and if it was an unplanned failure into account. Additionally, one commenter asked FTA to supply causes/reasons for performance restrictions in the reporting.

FTA Response: FTA has established the performance restriction calculation for ease of reporting. Any speed restriction is counted in the calculation regardless of cause. The TAM Final Rule establishes a narrative report that is also submitted annually where agencies may provide causes or reasons for performance restrictions. The NTD will not collect the cause of performance restrictions in a standardized format. The complexity and subjectivity of adding causes to this data element could limit the standard reporting procedure.

Comments: Two commenters requested clarification of reporting annually/monthly or daily one of which requested to report daily.

FTA Response: FTA does not have the capability to collect daily performance restrictions but the TAM final rule and NTD reporting requirements do not limit agencies from collecting additional information. The NTD will collect the annual average performance restriction as calculated by the methodology in the performance restriction guidebook. The guidebook has been revised to clarify that NTD will not collect monthly performance restrictions. It is up to the agency to track their monthly values and report the annual average with the NTD report.

Comments: Three commenters stated their concern about using the 9 a.m. of the first Wednesday of the month to quantify performance restrictions (this is noted in a previous comment). One commenter stated this might lead to gaming the system by deferring restriction to avoid measurement, others suggested that performance restrictions do not generally occur at this time of day. Another commenter wanted a clarification for selecting this time. Two commenters suggested additional means such as using statistical sampling of performance restriction for a more accurate measure and to collect supplemental information to capture condition assessment of infrastructure.

FTA Response: FTA established this time and day of the month for ease of calculation. FTA intended it to represent normal peak service during the middle of the week. The intention of this performance measure is to identify asset condition-related performance restrictions. If an agency schedules maintenance to avoid being measured in this calculation, that is acceptable because maintenance is not an asset condition-related performance restriction. It is unlikely an agency can or would remove a condition-related performance restriction solely to avoid being measured for this performance measure, due to the safety risk this could incur. FTA recognizes that more sophisticated and complex methods to determine performance restrictions exist; however, the intent of this guidance is to provide an easy to use, readily available data methodology that can be implemented nationwide.

Comments: Three commenters asked for specific information regarding reporting of the performance restrictions. One commenter suggested that staging and storage areas should be included in a non-revenue asset (along with non-revenue miles) category because the agency has capital responsibility for rail within its yards and uses funding to maintain it. Another commenter asked for an explanation of the process when directional route miles (DRM) are changed. One other commenter asked if agencies report track miles or segments.

FTA Response: FTA clarifies that the performance restriction guidebook relates only to the revenue track and guideway asset class within the infrastructure asset category. To ease reporting burden, not all asset classes are subject to performance measures. Non-revenue track miles such as those in staging and storage areas are not included in the calculation of performance restrictions, nor are they reportable to the NTD. However, the TAM final rule allows agencies to develop additional performance measures. The addition or subtraction of track miles or DRM will be reported to an agency's asset inventory and should be reflected in the performance measure calculations. FTA has added clarification in the guidebook that one hundredth (0.01) of a mile is equivalent to a segment to align the terminology in this guidebook to the TAM final rule infrastructure performance measure.

Comment: Four commenters provided responses to the proposed performance measure calculations. Two commenters expressed concern about using Directional Route Miles (DRM) for agencies that have multiple tracks because it does not represent a realistic view of the actual track usage and could yield misleading calculation. One of those commenters requested that FTA use track miles instead of DRM. One commenter stated the information in Table 5 was an excellent summarization of the requirements. Another commenter asked for clarification on which of the guidebook templates are customizable.

FTA Response: FTA agrees with the commenters that directional route miles (DRM) might misrepresent the performance restriction calculation. An additional benefit to using track miles is that it is a very simple, straight forward and widely understood parameter. FTA has changed the infrastructure performance restriction calculation parameter from `directional route miles' to `track miles' in response to these comments. FTA appreciates the commenter's statement of support of the information contained in Table 5. The tables and templates provided in the guidebook can be used and modified/customized by an agency in the purpose of following the requirements. An agency must be sure that if they modify or customize a template that it does not conflict with the process outlined in the guidebook for calculation of the performance measure.

Comments: Several commenters requested clarification of the proposed audience and intent of the guidebook specifically as it relates to NTD reporting. Suggested actions include adding an “intended audience” statement and assumed background information, changing title to reflect more NTD focus, and clarify which are TAM requirements or NTD requirements. In addition, one commenter requested guidebook should clarify that agencies must incorporate more than just NTD reporting into their TAM plans.

FTA Response: FTA agrees that the relationship of TAM and NTD requirements should be clarified in the guidebook. The TAM final rule establishes the performance measures that are reported to the NTD. This guidebook describes the standardized methodology requirements to calculate and report to the NTD. FTA has addressed these comments with a brief introduction section describing the relationship of TAM requirements and NTD reporting. The guidebook has also been renamed to “TAM Infrastructure Performance Measure Reporting Guidebook: Performance Restriction (Slow Zone) Calculation” to better describe the document.

Comments: Two commenters provided responses of a general nature not related to other topical areas. One commenter stated they feel the January 31, 2017, deadline for setting targets is too soon, due to having to work with multiple freight partners. Another commenter stated FTA did a very good job with the guidebooks; they support NTD and MAP-21 requirements very well. One commenter stated a concern about the performance measure not reflecting some of the assets that an agency invests in heavily, such as Positive Train Control (PTC) and bridges, since those assets do not directly impact the performance restriction which is FTA's performance measure for infrastructure.

FTA Response: FTA is aware of the short deadline for setting targets; however, FTA does not consider it is unreasonable. Throughout the rulemaking development process, the statutory requirement of a three-month deadline after the effective date of final rule to set performance measure targets was published and open for comment. Additionally, FTA has clarified that the January 1, 2017, deadline for setting initial targets does not include mandatory reporting to the NTD.⁴ FTA recognizes that not all capital items are included in a performance measure requirement for TAM. However, the TAM final rule allows agencies the flexibility to add additional performance measures in their TAM plans as they deem appropriate and useful in the operation, however only the standardized national TAM performance measures will be reported to the NTD.

⁴ https://www.transit.dot.gov/TAM/rulemaking.

Comments: One commenter stated concerns about freight considerations such as proprietary condition assessments of freight owned track assets and the non-dedicated nature of freight shared track and how TAM is applicable, lastly that their performance measures be compared to peer agencies due to their being subject to FRA regulations as a Class 4 railroad.

FTA Response: The TAM final rule only applies to assets used in the provision of public transportation. Freight assets are not considered public transportation; however, if an agency uses freight asset to provide public transportation they must include it in their TAM plan and NTD inventory. If they have direct capital responsibility (or shared capital responsibility) they must report performance restrictions to the NTD. The proprietary nature of a freight asset may require the agency to innovate solutions to determine condition assessments.

Comments: Three commenters felt that the performance restriction definition and or calculation were not appropriate, adequate or effective. One commenter stated that the performance restriction does not necessarily indicate poor infrastructure condition (could also mean maintenance, inspection, etc.). Another commenter did not feel the speed restrictions accurately reflect condition of the infrastructure, and thus disagrees with the performance restriction definition. Additionally, they were concerned that data based on the proposed performance restriction definition will misconstrue the reality and lead to irrational requests and unreasonable funding conditions. Another commenter stated that the calculations can cause transit systems to seem in a worse state of repair than is the reality.

FTA Response: FTA does not agree that the performance restriction definition or the calculation is flawed. However, FTA has clarified and refined several parameters in the calculation for clarity, 1—design speed is now full service speed, 2—directional route miles is now track miles and 3—a segment is defined to one hundredth (0.01) of a mile in length. FTA believes these clarifications, formatting changes and additional description of the roles in both TAM metrics and NTD reporting have resolved the issues these commenters raised.

FTA has revised each of the guidebooks to incorporate recommendations and edits as noted above. The revised guidebooks are located at the following Web site: www.transit.dot.gov/TAM. FTA encourages interested stakeholders to review the revised guidebooks in their entirety. Further assistance and guidance can be found at this Web site.

Issued in Washington, DC, pursuant to authority under 49 CFR 1.91.
Matthew J. Welbes,
Executive Director.

[FR Doc. 2017-08143 Filed 4-21-17; 8:45 am]

BILLING CODE P